ENVIRONMENTAL PROTECTION AGENCY

[EPA-HQ-OPPT-2005-0033; FRL-8872-4]

Toxic Substances Control Act Chemical Testing; Receipt of Test Data

AGENCY: Environmental Protection Agency (EPA).

ACTION: Notice.

SUMMARY: This notice announces EPA's receipt of test data on 12 chemicals listed in the Toxic Substance Control Act (TSCA) section 4 test rule titled “Testing of Certain High Production Volume Chemicals.”

FOR FURTHER INFORMATION CONTACT: For technical information contact: Kathy Calvo, Chemical Control Division (7405M), Office of Pollution Prevention and Toxics, Environmental Protection Agency, 1200 Pennsylvania Ave., NW., Washington, DC 20460-0001; telephone number: (202) 564-8089; fax number: (202) 564-4765; e-mail address: calvo.kathy@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this action apply to me?

This action is directed to the public in general. This action may, however, be of interest to those persons who are concerned about data on health and/or environmental effects and other characteristics of this chemical. Since other entities may also be interested, the Agency has not attempted to describe all the specific entities that may be affected by this action. If you have any questions regarding the applicability of this action to a particular entity, consult the person listed under FOR FURTHER INFORMATION CONTACT.

B. How can I get copies of this document and other related information?

All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

II. Test Data Submissions

EPA received test data on 12 chemicals listed in the TSCA section 4 test rule titled “Testing of Certain High Production Chemicals,” published in the Federal Register issue of March 16, 2006 (71 FR 13708) (FRL-7335-2).

Section 4(d) of TSCA (15 U.S.C. 2603(d)) requires EPA to publish a notice in the Federal Register reporting the receipt of test data submitted pursuant to test rules promulgated under TSCA section 4(a) (15 U.S.C. 2603(a)). Each notice must:

1. Identify the chemical substance or mixture for which data have been received.

2. List the uses or intended uses of such substance or mixture and the information required by the applicable standards for the development of test data.

3. Describe the nature of the test data developed.

The following table contains the information described in this document. See the applicable CFR cite, listed in this table, for test data requirements. EPA has completed its review and evaluation process for these submissions. Reviews have been added to the docket.

Table 1—Data Received in Response to a TSCA Section 4 Test Rule at 40 CFR 799.4115, Titled “Chemical Testing Requirements for Certain High Production Volume Chemicals,” Docket ID No. EPA-HQ-OPPT-2005-0033
Chemical identity | Data received | Document No. for the item in Docket ID No. EPA-HQ-OPPT-2005-0033 | Chemical use
Methane, dibromo (CASRN 74-95-3) | Determination of Vapor Pressure | 0254, transmittal; 0254.1 | Organic synthesis, solvent.
| Determination of General Physico-Chemical Properties | 0254 and 0254.2
| Algal Growth Inhibition Test | 0254 and 0254.3
| Chromosome Aberration Test in Human Lymphocytes In Vitro | 0254 and 0254.5
| Acute Toxicity to Rainbow Trout | 0259, transmittal; 0259.1
| Acute Toxicity to Daphnia Magna | 0259 and 0259.2
| Oral (Gavage) Reproduction/Developmental Toxicity Screening Test in the Rat | 0259, 0259.3, part 1, and 0259.4, part 2
1,3-Propanediol, 2,2-bis[(nitrooxy)methyl]-, dinitrate (CASRN 78-11-5) | Reproductive and Developmental Effects of Oral Exposure to Pentaerythritol-Tetranitrate (PETN) in the Rat | 0294, transmittal; and 0294.1 | Demolition explosive, blasting caps, detonating compositions, “Primacord”.
| 1. Determination of the Water Solubility 2. n-Octanol/Water Partition Coefficient 3. Biodegradation Potential of Pentaerythritol Tetranitrate (PETN). | 0294 and 0294.2. Copyrighted document. See note
| Toxicity of Pentaerythritol Tetranitrate (PETN) to the Unicellular Green Alga (Selenastrum capricornutum) Under Static Test Conditions, Part 1 | 0294 and 0294.3
| Toxicity of Pentaerythritol Tetranitrate (PETN) to the Unicellular Green Alga (Selenastrum capricornutum) Under Static Test Conditions, Part 2, (PETN Analytical Report) | 0294 and 0294.4
9,10-Anthracenedione (CASRN 84-65-1) | Data for: 1. Melting Point. 2. Boiling Point. 3. Vapor Pressure. | 0182, transmittal; 0211 | Intermediate for dyes and organics, organic inhibitor, and bird repellent for seeds.
| Physical and Chemical Characteristics of Anthraquinone: n-Octanol/Water Partition Coefficient and Solubility | 0222, transmittal; 0222.1
| An Oral Reproduction/Developmental Toxicity Screening Study of Anthraquinone in Rats | 0222 and 0222.2
2,4-Hexadienoic acid (2E, 4E) (Sorbic acid) (CASRN 110-44-1) | Physical and Chemical Property Tests for: 1. Melting Point. 2. Water Solubility. 3. n-Octanol/Water Partition Coefficient. 4. Boiling Point. 5. Vapor Pressure. | 0313 and 0335 | Fungicide, food preservative (mold inhibitor), alkyd resin coatings, upgrading of drying oils, cold rubber additive, and intermediate for plasticizers and lubricants.
| Fathead Minnow 96-Hour Acute Toxicity Test
| Daphnia Magna 48-Hour Acute Toxicity Test
| Pimephales Promelas Acute Toxicity Test
Dodecane, 1-chloro- (CASRN 112-52-7) | Determination of the Boiling Point/Boiling Range of 1-Chlorodedecane | 0314, transmittal; 0314.6 | Solvent, chemical intermediate to make photographic chemicals, pharmaceuticals, organic metallic compounds, and surfactants.
| Determination of the Vapor Pressure of 1-Chlorododecane Using the Static Method | 0314 and 0314.10
| 1-Chlorododecane: Determination of n-Octanol/Water Partition Coefficient | 0314 and 0314.8
| Determination of the Water Solubility of 1-Chlorododecane | 0314 and 0314.11
| 1-Chlorodecane: Evaluation of Ultimate Biodegradability in an Aqueous Medium-Static Test, ISO/FDIS 9888:1999(E)(1)) (Zahn-Wellens Method) | 0314 and 0314.9
| 1-Chlorododecane: A 96-Hour Toxicity Test with the Freshwater Alga (Pseudokirchneriella subcapitata) | 0314 and 0314.5
| A Flow-Through Life-Cycle Toxicity Study of 1-Chlorododecane with the Cladoceran (Daphnia magna) | 0314 and 0314.7
| Acute Oral Toxicity with 1-Chlorododecane: Up and Down Procedure in Rats | 0314 and 0314.1
| A Combined 28-Day Repeated Dose Oral Toxicity Study with the Reproduction/Developmental Toxicity Screening Test of 1-Chlorododecane in Rats | 0314 and 0314.4
| Bacterial Reverse Mutation Assay of 1-Chlorododecane | 0314 and 314.2
| In Vitro Mammalian Chromosome Aberration Test | 0314 and 0314.3
Phenol, 4,4′-methylenebis[2,6-bis(1,1-dimethyethyl)-(CASRN 118-82-1) | Existing data for Determination of Water Solubility and n-Octanol/Water Partition Coefficient | 0163 | Oxidation inhibitor, anti wear agent for motor oils, aviation piston engine oils, industrial oils, anti oxidant for rubbers, resins, and adhesives.
| Existing data for Bacterial Reverse Mutation Test (Ames Test) | 0181; transmittal; 0181.2
| Re submittal for Bacterial Reverse Mutation Test (Ames Test) | 0250, transmittal; 0250.1, and 0250.2
| Existing data for Acute Oral Mammalian Toxicity Test | 0181 and 0181.1
| Existing data for Reproduction/Developmental Toxicity Screening Test | 0181 and 0181.3
| Chromosomal Aberration Test with AN-2 Cultured Chinese Hamster Ovary (CHO) Cells | 0257. Copyrighted document. See note
| Activated Sludge Die-away Biodegradation Test with AN-2(4,4-methylenebis (2,6-di-tert-butylphenol) Using Non-adapted and Adapted Activated Sludge | 0275.1. Copyrighted document. See note
| 1. Melting Point 2. Boiling Point. 3. Vapor Pressure. | 0274
Methanesulfinic acid, 1-hydroxy-, sodium salt (1:1) (CASRN 149-44-0) | 1. Existing study for Biodegration Test according to OECD 301B: Degradation of a Product 2. Existing study for Acute Toxicity to Fish According to DIN Method 38412 3. Existing study for Acute Toxicity to Daphnia According to OECD 202, Part 1 4. Existing study for Determination of the 72-hour EC50 of “Brueggolit E02” towards Scenedesmus subspicatus (LAUS GmbH) 5. Existing study for Algae Inhibition Test According to OECD 201 (Jaeger) | 0238 | Stripping and discharge agent for textiles, bleaching agent for molasses, soap.
| 1. Melting Point (ASTM E 324) 2. Boiling Point (ASTM E1719), Water Partition Coefficient 3. Water Solubility (ASTM E 1148) (40 CFR 799.6784) 4. Genetic Toxicity (chromosomal damage) (40 CFR 799.6784) 5. Combined Repeated Dose/Developmental/Reproductive Toxicity Test (40 CFR 799.9365) | 0309
Heptenone, methyl- (CASRN 409-02-9) | Physicochemical Properties, i.e., Melting Point, Boiling Point, Vapor Pressure, and n-Octanol/Water Partition Coefficient | 0324, transmittal; 0324.15 | Organic synthesis, inexpensive perfumes, flavoring.
| Water Solubility | 0324 and 0324.13
| Ready Biodegradability: OECD 301F Manometric Respirometry Test | 0324 and 0324.12
| Fish Acute Toxicity Test | 0324 and 0324.11
| Daphnia sp., Acute Immobilization Test | 0324 and 0324.10
| Alga, Growth Inhibition Test | 0324 and 0324.9
| Acute Oral Toxicity to the Rat Test | 0324 and 0324.8
| Bacterial Reverse Mutation Test | 0324 and 0324.6
| In Vitro Mammalian Chromosome Aberration Test in Human Lymphocytes | 0324 and 0324.4
| Reproductive Developmental Toxicity Screening Test by Oral Gavage Administration to CD Rats | 0324, 0324.1, 0324.2
Methane, isocyanato-(CASRN 624-83-9) | Robust summaries of publicly available existing data on: 1. Melting Point. 2. Boiling Point. 3. Vapor Pressure. 4. Partition Coefficient. 5. Solubility in Different Media: Solubility in Water. 6. Stability in Water. 7. Biodegradation. 8. Acute/Prolonged Toxicity to Fish 9. Acute Toxicity to Aquatic Invertebrates 10. Toxicity to Aquatic Plants, e.g., Algae | 0249 | Production of pesticides, polyurethane foam, and plastics.
Benzenesulfonic acid, [[4-[[4-[(phenylamino)phenyl][4-(phenylimino)-2,5-cyclohexadien-1-ylidene]methyl]phenylamino]-(C.I. Pigment Blue 61) (CASRN 1324-76-1) | These data were claimed as CBI. The public version includes a robust summary of existing data for: 1. Acute Toxicity to Fish. 2. Acute Mammalian toxicity. 3. Ames Bacterial Reverse Mutation. 4. Cytogenetic Micronucleous Assay (Chromosomal damage) | 0286 and 0322 | Intermediate for antifouling paint agents, catalyst in organic reactions, used by offset ink makers to produce inks for heatset, coldset and sheet-fed applications.
| Existing data for: 1. Melting Point. 2. Boiling Point. 3. Water Solubility. | 0185, 0246, and 0280
| These data were claimed as CBI. The public version includes a robust summary for n-Octanol/Water Partition Coefficient | 0185, 0246, 0318, and 0280
| These data were claimed as CBI. The public version includes a robust summary for Inherent Biodegradation | 0185, 0246, and 0279
| Data for Vapor Pressure | 0280 and 0318
| These data were submitted as CBI. The public version includes data on: 1. Acute Toxicity in Daphnia Magna with C.I. Pigment Blue 61 2. Fresh Water Algae Growth Inhibition Test with C.I. Pigment Blue 61 3. Combined 28-Day Repeated Dose Toxicity Study with the Reproduction/Developmental Toxicity Screening Test | 0318
C.I. Solvent Black 7 (CASRN 8005-02-5) | Existing data for: Inherent Biodegradation: ISO 9888 (Zahn-Wellens method) | 0168, transmittal; 0169, and 0184 | Plastics, rubber, Bakelite, ink, paint, carbon paper, and leather shoe coloring.
| Acute Toxicity to Rainbow Trout by Zahn-Wellens test, OECD 302B | 0174 and 0184
| Acute Toxicity to Daphnia, Daphnia Static Acute, OECD 202 | 0175 and 0184
| Acute Toxicity to Plants, Algae Growth Inhibition, OECD 201 | 0176 and 0184
| Acute Mammalian Toxicity, Rat, OECD 401 | 0170 and 0184
| Reverse Mutation Assay using Salmonella Typhimarium, OECD 471 | 0171 and 0184
| Micronucleous Assay, Nigrossine Base Ex: Metaphase Analysis in Chi Cells In Vitro | 0172 and 0184
| Twenty-Eight Day Sub-acute Oral (Gavage) Toxicity Study in the Rat, OECD 407 | 0173 and 0184
| Determination of Physico-Chemical Properties of C.I. Solvent Black 7, including Melting Point ASTM E 324 (capillary tube) | 0290, transmittal; 0290.1, pg. 4; and 0290.2
| Boiling Point: ASTM E 1719 (ebulliometry) | 0290.1, pg. 7; and 0290.2
| Vapor Pressure: ASTM E 1782 (thermal analysis) | 0290.1, pg. 15; and 0290.2
| n-Octanol/Water Partition Coefficient | 0290, 0290.1, pg. 17; and 0290.2
| Water Solubility | 0290, 0290.1, pg. 20; and 0290.2
| A Prenatal Developmental Toxicity Study of C.I. Solvent Black 7 in Rats by Oral Gavage | 0290, 290.4, and 0184
Urea, reaction products with formaldehyde (CASRN 68611-64-3) | For Fulfillment of Data Requirements for Urea, Reaction Products with Formaldehyde under TSCA Section 4 | 0360 and 0361 | Adhesive or binder for particle board, medium density fiber board, hardwood plywood, glass fiber roofing materials.
Notes:
1. Chemical use reference: Hawley's Condensed Chemical Dictionary. Fifteenth Ed. Richard J. Lewis, Sr. published by John Wiley & Sons, Inc. Hoboken, NJ. 2007.
2. Copyrighted publications: See Unit I.B.
3. Terms: ASTM—ASTM International, producer of international voluntary consensus standards (formerly the American Society for Testing and Materials); CASRN—Chemical Abstract Service Registry Number; CBI—Confidential Business Information; DIN—The German Institute for Standardization; ISO/FDIS—International Organization for Standardization/Final Draft International Standard; OECD—Organisation for Economic Co-operation and Development; TSCA—Toxic Substances Control Act.

Authority: 15 U.S.C. 2603.

List of Subjects

Environmental protection, Hazardous substances.

Dated: June 21, 2011.
Maria J. Doa,
Director, Chemical Control Division, Office of Pollution Prevention and Toxics.

[FR Doc. 2011-16162 Filed 6-28-11; 8:45 am]

BILLING CODE 6560-50-P